DEPARTMENT OF LABOR

Mine Safety and Health Administration

Petitions for Modification

The following parties have filed petitions to modify the application of existing safety standards under section 101(c) of the Federal Mine Safety and Health Act of 1977 and 30 CFR part 44.

1. Orchard Coal Company

[Docket No. M-2006-033-C]

Orchard Coal Company, 214 Vaux Road, Tremont, Pennsylvania 17981 has filed a petition to modify the application of 30 CFR 75.381(c)(5) (Escapeways; anthracite mines) to its Orchard Slope Mine (MSHA I.D. No. 36-08346) located in Schuylkill County, Pennsylvania. The petitioner requests a modification of the existing standard to eliminate the requirement to use a continuous directional lifeline at the Orchard Slope Mine. The petitioner states that: (1) The pitching seams in the anthracite coal mines are inherently directional; (2) the entries are either driven horizontal in one direction or vertical with the pitching geology; (3) when entering the mine if the mine roof is on your right side, it is basic knowledge to know that when leaving the mine, the mine roof is on your left side; and (4) even if vision is impaired, it is impossible to lose your sense of direction, simply by the location of the roof and rib. The petitioner asserts that application of the existing standard would cause a diminution of safety to the miners because to stretch any type of line across the opening of a vertical entry could result in a tripping hazard with a fall potential in excess of 30 to 60 feet.

2. R S & W Coal Company

[Docket No. M-2006-034-C]

R S & W Coal Company, 207 Creek Road, Klingerstown, Pennsylvania 17941 has filed a petition to modify the application of 30 CFR 75.381(c)(5) (Escapeways; anthracite Mines) to its R S & W Slope Mine (MSHA I.D. No. 36-01818) located in Schuylkill County, Pennsylvania. The petitioner requests a modification of the existing standard to eliminate the requirement to use a continuous directional lifeline at the R S & W Slope Mine. The petitioner states that: (1) The pitching seams in the anthracite coal mines are inherently directional; (2) the entries are either driven horizontal in one direction or vertical with the pitching geology; (3) when entering the mine if the mine roof is on your right side, it is basic knowledge to know that when leaving the mine, the mine roof is on your left side; and (4) even if vision is impaired, it is impossible to lose your sense of direction, simply by the location of the roof and rib. The petitioner asserts that application of the existing standard would cause a diminution of safety to the miners because to stretch any type of line across the opening of a vertical entry could result in a tripping hazard with a fall potential in excess of 30 to 60 feet.

3. R & D Coal Company

[Docket No. M-2006-035-C]

R & D Coal Company, 214 Vaux Road, Tremont, Pennsylvania 17981 has filed a petition to modify the application of 30 CFR 75.1714-2(c) (Self-rescue devices; use and location requirements) to its R & D Slope Mine (MSHA I.D. No. 36-02053) located in Schuylkill County, Pennsylvania. The petitioner requests a modification of the existing standard to permit self-contained self-rescue (SCSR) devices to be stored within 200 feet of the working face which is less than 1 minute travel time. The petitioner states that in steeply pitching, conventional anthracite mines, entries are advanced as far as 200 feet vertically, which exposes the miner to trip and fall hazards and the necessity of carrying supplies up narrow entries while wearing the SCSRs may result in damage to the SCSR and also may result in a diminution of safety to the miner.

4. R & D Coal Company, Inc.

[Docket No. M-2006-036-C]

R & D Coal Company, 214 Vaux Road, Tremont, Pennsylvania 17981 has filed a petition to modify the application of 30 CFR 75.381(c)(5) (Escapeways; anthracite mines) to its R & D Slope Mine (MSHA I.D. No. 36-02053) located in Schuylkill County, Pennsylvania. The petitioner requests a modification of the existing standard to eliminate the requirement to use a continuous directional lifeline at the R & D Slope Mine. The petitioner states that: (1) The pitching seams in the anthracite coal mines are inherently directional; (2) the entries are either driven horizontal in one direction or vertical with the pitching geology; (3) when entering the mine if the mine roof is on your right side, it is basic knowledge to know that when leaving the mine, the mine roof is on your left side; and (4) even if vision is impaired, it is impossible to lose your sense of direction, simply by the location of the roof and rib. The petitioner asserts that application of the existing standard would cause a diminution of safety to the miners because to stretch any type of line across the opening of a vertical entry could result in a tripping hazard with a fall potential in excess of 30 to 60 feet.

5. Ohio County Coal Company

[Docket No. M-2006-037-C]

Ohio County Coal Company, 19050 Highway 1078 South, Henderson, Kentucky 42420 has filed a petition to modify the application of 30 CFR 75.1101-1(b) (Deluge-type water spray systems) to its Freedom Mine (MSHA I.D. No. 15-17587) located in Henderson County, Kentucky. In lieu of providing nozzles with blow-off dust covers, the petitioner proposes to: (1) Conduct a weekly visual examination of each deluge-type water spray fire suppression system; (2) conduct a weekly functional test of the deluge-type water spray fire suppression systems by actuating the system and observing its performance; and (3) record the results of the examination and functional test in a book maintained on the surface and made available to authorized representatives of the Secretary and retained at the mine for one year by a person trained in the testing procedures specific to the deluge-type water spray fire suppression systems at each belt drive. The petitioner states that if any malfunction or clogged nozzle is detected, corrections will be made immediately, and the procedures used to perform the functional test will be posted at or near each belt drive that uses a deluge-type water spray fire suppression system. The petitioner asserts that the proposed alternative method would provide at least the same measure of protection as the existing standard.

6. S & M Coal Company

[Docket No. M-2006-038-C]

S & M Coal Company, 1744 E. Grand Avenue, Tower City, Pennsylvania 17980 has filed a petition to modify the application of 30 CFR 75.381(c)(5) (Escapeways; anthracite mines) to its S & M Slope Mine (MSHA I.D. No. 36-02022) located in Dauphin County, Pennsylvania. The petitioner requests a modification of the existing standard to eliminate the requirement to use the continuous directional lifeline at the S & M Slope Mine. The petitioner states that: (1) The pitching seams in the anthracite coal mines are inherently directional; (2) the entries are either driven horizontal in one direction or vertical with the pitching geology; (3) when entering the mine if the mine roof is on your right side, it is basic knowledge to know that when leaving the mine, the mine roof is on your left side; and (4) even if vision is impaired, it is impossible to lose your sense of direction, simply by the location of the roof and rib. The petitioner asserts that application of the existing standard would cause a diminution of safety to the miners because to stretch any type of line across the opening of a vertical entry could result in a tripping hazard with a fall potential in excess of 30 to 60 feet.

7. S & M Coal Company

[Docket No. M-2006-039-C]

S & M Coal Company, 1744 E. Grand Avenue, Tower City, Pennsylvania 17980 has filed a petition to modify the application of 30 CFR 75.1714-2(c) (Self-rescue devices; use and location requirements) to its S & M Slope Mine (MSHA I.D. No. 36-02022) located in Dauphin County, Pennsylvania. The petitioner requests a modification of the existing standard to permit self-contained self-rescue (SCSR) devices to be stored within 200 feet of the working face. The petitioner states that in a steep pitch mine, the passageways are very thin and have a 3-foot ceiling clearance. The petitioner further states that the necessity of carrying supplies up narrow entries while wearing the SCSRs, may result in damage to the SCSR and also may result in a diminution of safety to the miner.

8. Orchard Coal Company

[Docket No. M-2006-041-C]

Orchard Coal Company, 214 Vaux Road, Tremont, Pennsylvania 17981 has filed a petition to modify the application of 30 CFR 75.360 (Preshift examination at fixed intervals) to its Orchard Slope Mine (MSHA I.D. No. 36-08346) located in Schuylkill County, Pennsylvania. The petitioner proposes to: (1) Conduct an examination and evaluation, including a visual examination of each seal for physical damage, from the slope gunboat during the pre-shift examination after an air quantity reading is taken just inby the intake portal; (2) take an additional air reading and gas test for methane and oxygen deficiency at the intake air split location(s) just off the slope in the gangway portion of the working section; and (3) have the examiner place the date, time and his/her initials at locations where air readings and gas test are taken, with the results properly recorded prior to anyone entering the mine. The petitioner states that regardless of conditions found at the section evaluation point, the slope will be traveled and physically examined for its entire length on a monthly basis with dates, times, and initials placed at sufficient locations throughout and results of the examination recorded on the surface, and any hazards will be corrected prior to transporting personnel in the slope. The petitioner asserts that the proposed alternative method would provide at least the same measure of protection as the existing standard for the following reasons: (1) Miners would have to climb around platform ladder obstructions increasing the risk of falling; (2) when a platform is not provided, a significant injury or fall exists when a miner gets in and out of the gunboat when conducting examinations; (3) accurate readings cannot be obtained with the gunboat blocking a major portion of the intake slope and platforms installed across the intake would almost totally restrict the mine's only intake; (4) the intake slope is also the location for electrical conductors and discharge piping the pump system located in the sump area and since the intake haulage slope is the only intake for the mine, oxygen deficiency is highly unlikely; and (5) thorough examination of the intake haulage slope on a monthly basis will ensure the safety of miners traveling the intake escapeway and would minimize the fall hazard potential of miners conducting examinations.

9. Drummond Company, Inc.

[Docket No. M-2006-042-C]

Drummond Company, Inc., P.O. Box 10246, Birmingham, Alabama 35202 has filed a petition to modify the application of 30 CFR 75.507 (Power connection points) to its Shoal Creek Mine (MSHA I.D. No. 01-02901) located in Jefferson County, Alabama. The petitioner requests modification of the existing standard which pertains to “all power-connection points outby the last open crosscut shall be in intake air.” The petitioner proposes to use three-phase, alternating current deep-well submersible pumps in boreholes or shafts in the Shoal Creek Mine. Petitioner states that the three-phase alternative significantly reduces the exposure of employees to travel in remote areas and significantly improves the de-watering process at the Shoal Creek Mine. Thus, the petitioner asserts that the proposed alternative method would provide at least the same measure of protection as the existing standard.

10. Hanson Aggregates Pma, Inc.

[Docket No. M-2006-003-M]

Hanson Aggregates Pma Inc., 394 Quarry Road, Latrobe, Pennsylvania 15650 has filed a petition to modify the application of 30 CFR 57.4461 (Gasoline use restrictions underground) to its Whitney Plant (MSHA I.D. No. 36-08284) located in Westmoreland County, Pennsylvania. The petitioner requests a modification of the existing standard to permit the use of gasoline-powered trucks to transport personnel into and out of the mine as an equivalent safe method of evacuating the mine in the event that certain passageways could not be used in an emergency. The petitioner proposes to provide an escape and evacuation plan that will: (1) Notify all underground personnel of an emergency by means of strobe light; (2) instruct all personnel to evacuate the mine in an emergency; and (3) instruct all mine personnel to follow the primary evacuation route, or follow the secondary escape route if the primary route is not passable. The petitioner states that if the mine portal is considered to be unsafe, the mine personnel will meet at the clock office. The petitioner further states that: (1) The proposed alternative method of compliance provides equivalent or superior safety to the application of the existing standard because it reduces the potential health risk; (2) the mine design that permits ready evacuation in under an hour from all points, even where some passageways may be bermed or barricaded off due to inactive status or because ground conditions may require remediation; and (3) application of the existing standard is infeasible and impractical at the Whitney Plant due to the historical use of gasoline-powered trucks to transport personnel into and out of the mine and the potential health risk from diesel particulate matter associated with diesel-powered trucks.

Request for Comments

Persons interested in these petitions are encouraged to submit comments via e-mail to Standards-Petitions@dol.gov. Include “petitions for modification” in the subject line of the e-mail. Comments can also be submitted by fax, regular mail, or hand-delivery. If faxing your comments, include “petitions for modification” on the subject line of the fax. Comments by regular mail or hand-delivery should be submitted to the Mine Safety and Health Administration, Office of Standards, Regulations, and Variances, 1100 Wilson Boulevard, Room 2350, Arlington, Virginia 22209. If hand-delivered, you are required to stop by the 21st floor to check in with the receptionist. All comments must be postmarked or received by the Office of Standards, Regulations, and Variances on or before October 26, 2006. Copies of the petitions are available for inspection at that address.

Dated at Arlington, Virginia this 19th day of September 2006.
Ria Moore Benedict,
Deputy Director, Office of Standards, Regulations, and Variances.

[FR Doc. 06-8247 Filed 9-25-06; 8:45 am]

BILLING CODE 4510-43-P